DEPARTMENT OF STATE

[Public Notice: 11591]

Revocation of the Designation of the Revolutionary Armed Forces of Colombia (FARC) (and Other Aliases) as a Specially Designated Global Terrorist

I hereby revoke the designation of the following person as a Specially Designated Global Terrorist, pursuant to section 1(a)(ii) of E.O. 13224: Revolutionary Armed Forces of Colombia (FARC) (and other aliases).

This determination shall be published in the Federal Register.

Authority: E.O. 13224, 66 FR 49079, 3 CFR, 2001 Comp., p. 786.

Dated: November 18, 2021.
Antony J. Blinken,
Secretary of State.

[FR Doc. 2021-26087 Filed 11-30-21; 8:45 am]

BILLING CODE 4710-AD-P